OFFICE OF PERSONNEL MANAGEMENT

Notice of Revision of Standard Form 15

AGENCY: U.S. Office of Personnel Management.

ACTION: Notice of Revision.

SUMMARY: In accordance with the Paperwork Reduction Act of 1995 (Pub. L. 104-13, May 22, 1995), this notice announces the Office of Personnel Management's (OPM) plan to submit to the Office of Management and Budget (OMB) a request for clearance of a revised information collection, Standard Form (SF) 15, Application for 10-Point Veteran Preference. The SF-15 is used by agencies, OPM examining offices, and agency appointing officials to adjudicate individuals' claims for veterans' preference in accordance with the Veterans' Preference Act of 1944. OPM's revisions will (1) remove obsolete items; and (2) update language as a result of the enactment of the VOW (Veterans Opportunity to Work) to Hire Heroes Act of 2011 (Pub. L. 112-56). The SF 15 will be revised to create a PDF fillable form for applicant use. The only acceptable version of this form will be as stated above, but consistent with current practice, the form may be submitted electronically or in hard copy. Upon publication, please destroy any prior versions you have in stock. The SF 15 will be obtainable on the OPM Web site at www.opm.gov/forms/html.sf.asp.

DATES: The revised form is effective September 30, 2013.

FOR FURTHER INFORMATION CONTACT: Mike Gilmore by telephone at (202) 606-2429; by fax at (202) 606-2329; by TTY at (202) 418-3134; or by email at Michael.gilmore@opm.gov.

U. S. Office of Personnel Management.
Elaine Kaplan,
Acting Director.

[FR Doc. 2013-21219 Filed 8-29-13; 8:45 am]

BILLING CODE 6325-39-P